DEPARTMENT OF TRANSPORTATION

Federal Aviation Administration

[Docket No.: FAA-2023-0855-]

Request for Comments on the Federal Aviation Administration's Review the Civil Aviation Noise Policy; Extension of Comment Period

AGENCY: Federal Aviation Administration, DOT.

ACTION: Notice of public meeting; Request for comments.

SUMMARY: On May 1, 2023, the Federal Aviation Administration (FAA) published a Request for comments seeking input on its review of four key considerations of its civil aviation noise policy, in the context of noise metrics and noise thresholds. The civil aviation noise policy sets forth how the FAA analyzes, explains, and publicly presents changes in noise exposure from aviation activity. The comment period for the request for comments was scheduled to end on July 31, 2023. FAA received several requests to extend the comment period. The FAA is extending the comment period for the request for comments by 60 days.

DATES: The comment period to the request for comments published on May 1, 2023, at 88 FR 26641, is extended from July 31, 2023, to September 29, 2023.

ADDRESSES: Send comments identified by docket number FAA-2023-0855 using any of the following methods:

• Federal eRulemaking Portal: Go to https://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Instructions: For detailed instructions on submitting comments and additional information on the public meeting, see the Public Participation heading of the SUPPLEMENTARY INFORMATION section of this document.

Privacy: In accordance with 5 U.S.C. 553(c), DOT solicits comments from the public to better inform its rulemaking process. DOT posts these comments, without edit, including any personal information the commenter provides, to www.regulations.gov, as described in the system of records notice (DOT/ALL-14 FDMS), which you can review at https://www.dot.gov/privacy.

Docket: Background documents or comments received may be read at https://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: For questions concerning this action, contact Mr. Donald S. Scata, Jr. or Ms. Krystyna Bednarczyk, Federal Aviation Administration, 800 Independence Ave. SW, Washington, DC 20591; telephone (202) 267-0606; email NoisePolicyReview@faa.gov.

SUPPLEMENTARY INFORMATION: On May 1, 2023, the FAA published a request for comments in the Federal Register seeking public comments from interested individuals, entities, and other parties on our review of four key considerations of our civil aviation noise policy (88 FR 26641). The request for comments stated that the comment period would close on July 31, 2023. The FAA received requests to extend the comment period by members of the public, a city councilmember from a major metropolitan area, and from a consortium of nine industry groups representing national, regional, and ultra low-cost passenger carriers; the general aviation aircraft sector; cargo airlines; airport executives; and local, regional and state governing bodies that own and operate commercial airports in the United States and Canada. Some requestors stated that the scope of FAA's review is “extremely broad,” “potential changes . . . would have significant implications for commercial airlines, airports, public air transport, and the FAA,” and therefore requested additional time to evaluate the “complex issues and implications raised by these questions, and to formulate a comprehensive and well-reasoned response.” Other requestors noted that the FAA's request for comments overlaps with efforts to meet and confer with Congressional representatives on the FAA Reauthorization Act of 2023 introduced by the U.S. House of Representatives' Transportation and Infrastructure Committee and to provide comments in response to the DOT's request for information on critical issues related to drafting a national advanced air mobility (AAM) strategy, which would be open for 60 days and close on July 17, 2023. 88 FR 31593 (May 17, 2023). Commenters noted that having a two complicated and technical Federal Register notices due at approximately the same time, while other related and time-sensitive matters also require the attention of requesters, would create undue hardship on the public. The requests for an extension ranged from 60 to 90 days. The FAA is granting an extension of the comment period for the request for comments through September 29, 2023.

Issued in Washington, DC, on July 5, 2023.
Julie Ann Marks,
Deputy Director, Office of Environment and Energy.

[FR Doc. 2023-14597 Filed 7-10-23; 8:45 am]

BILLING CODE 4910-13-P